NUCLEAR REGULATORY COMMISSION

[Docket No. 070-00008]

Notice of Issuance of License Amendment for Termination of License SNM-00007 for Battelle Memorial Institute, West Jefferson, OH

AGENCY: Nuclear Regulatory Commission.

ACTION: Notice of availability.

FOR FURTHER INFORMATION CONTACT: George M. McCann, Senior Health Physicist, Decommissioning Branch, Division of Nuclear Material Safety, Region III, U.S. Nuclear Regulatory Commission, 2443 Warrenville Road, Lisle, Illinois 60532; Telephone: (630) 829-9856; fax number: (630) 515-1259; e-mail: Mike.McCann@nrc.gov.

SUPPLEMENTARY INFORMATION:

I. Introduction

The Nuclear Regulatory Commission (NRC) is issuing a license amendment to terminate Special Nuclear Material License No. SNM-00007 issued to Battelle Memorial Institute (the licensee) and to authorize for unrestricted use its former North Nuclear Sciences Site, located near West Jefferson, Ohio. An NRC approved decommissioning plan (DP) (ML003711118), which references an U.S. Department of Energy Environmental Assessment, and Finding of No Significant Impact, was incorporated into the licensee's license by Amendment No. 23, on August 25, 2000 (ML010410001). These documents addressed the impacts of the licensee's actions to decommission its former byproduct and special nuclear materials research facilities and associated site, including final status survey plans and the licensee's intent to terminate license SNM-00007. In a letter dated August 3, 2006, (ML062200140) the licensee requested termination of its NRC radioactive source material license. The NRC's staff review of the Battelle Memorial Institute's termination request and final status surveys are documented in a Safety Evaluation Report. Based on the staff review, the NRC concluded that all licensable radioactive material has been removed from the licensee's former North Nuclear Sciences Site and residual radioactive material attributable to licensed activities does not exceed NRC unrestricted use criteria.

II. Licensee Background and Staff Review Findings

The purpose of the amendment is to terminate Battelle Memorial Institute's special nuclear material license and authorize for unrestricted release the licensee's former Nuclear Sciences Site located near West Jefferson, Ohio.

Battelle's DP (ML003711118) was originally approved by the NRC during 1993, before implementation of the current NRC “License Termination Rule.” The unrestricted release criterion cited in the DP was based on current regulatory guidance in effect at that time, that is, concentration and surface release tables, and consistent with criteria outlined in an NRC letter to the licensee dated April 17, 1992 (ML070180226). The licensee's DP was incorporated into NRC Special Nuclear Materials License No. SNM-00007 by License Amendment No. 23 on August 25, 2000 (ML010410001). This action was consistent with Title 10 of the Code of Federal Regulations (CFR), Part 20, Section 20.1401(b)(2), General provisions and scope, which states in part that “(b) The criteria in this subpart do not apply to sites which: (2) have previously submitted and received Commission approval on a license termination plan (LTP) or decommissioning plan that is compatible with the Site Decommissioning Management Program Action Plan criteria.” Thus, the incorporation of the DP into Battelle Memorial Institute's license did not change the previously approved release criteria, but the licensee voluntarily implemented an administrative “as low as reasonably achievable” limit of 25 mrem per year dose limit throughout the West Jefferson North decommissioning project.

Historically, Battelle performed atomic energy research and development for the U.S. Department of Energy (DOE) and its predecessor agencies between 1943 and 1986 at its Columbus Laboratories sites. The licensee's special nuclear material license SNM-00007 authorized byproduct and special nuclear materials for commercial nuclear research activities at the same locations. Between the late 1980s and 1993, DOE and the NRC met to discuss coordination of the Battelle Columbus Laboratories Decommissioning Project. As a result, DOE decided to not impose DOE Orders where such orders would duplicate existing regulations which the project was already required to follow. It was agreed that the DOE would maintain day-to-day operational responsibility for the decontamination and decommissioning project, and that the NRC would impose three statutory responsibilities, which were to: (1) Conduct periodic inspections; (2) approve the release criteria used; and (3) certify the final release of the Battelle site. The NRC met with DOE and the Ohio Department of Public Health on a number of occasions to ensure good communications and coordination between the respective agencies.

The NRC Safety Evaluation Report was issued in support of the license amendment. Based on this review, the NRC staff has determined that the licensee's final status surveys are adequate to demonstrate compliance with radiological criteria for license termination, and that Battelle Memorial Institute has demonstrated that the former nuclear research site's radiological condition complies with the radiological criteria for license termination. The NRC staff has reviewed the proposed amendment and has determined that the proposed termination will have no adverse effect on the public health and safety or the environment.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are listed in the NRC Safety Evaluation Report (Accession No. ML081210718). If you do not have access to ADAMS or if there are problems in accessing the documents located in ADAMS, contact the NRC Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Lisle, Illinois, this 1st day of May 2008.
For the Nuclear Regulatory Commission.
Patrick L. Louden,
Chief, Decommissioning Branch, Division of Nuclear Materials Safety, Region III.

[FR Doc. E8-10281 Filed 5-7-08; 8:45 am]

BILLING CODE 7590-01-P